ENVIRONMENTAL PROTECTION AGENCY

[EPA-HQ-OAR-2013-0118; FRL-11429-01-OAR]

Proposed Information Collection Request; Comment Request; Control of Evaporative Emissions From New and In-Use Portable Gasoline Containers (Renewal), ICR 2213.07, OMB 2060-0597

AGENCY: Environmental Protection Agency (EPA).

ACTION: Notice.

SUMMARY: The Environmental Protection Agency is planning to submit an information collection request (ICR), “Control of Evaporative Emissions from New and In-Use Portable Gasoline Containers (Renewal)”, ICR 2213.07, OMB 2060-0597 to the Office of Management and Budget (OMB) for review and approval in accordance with the Paperwork Reduction Act. Before doing so, EPA is soliciting public comment on specific aspects of the proposed information collection request as described below. This notice is a proposed extension of the Portable Fuel Container ICR, which is currently approved through January 31, 2024. An Agency may not conduct or sponsor and a person is not required to respond to a collection of information unless it displays a currently valid OMB control number.

DATES: Comments must be submitted on or before January 2, 2024.

ADDRESSES: Submit your comments, referencing the Docket ID No. EPA-HQ-OAR-2013-0118, to the EPA: online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Philip Carlson, Compliance Division, Office of Transportation and Air Quality, U.S. Environmental Protection Agency, 2000 Traverwood, Ann Arbor, Michigan 48105; telephone number: 734-214-4270; fax number 734-214-4869; email address: Carlson.Philip@epa.gov.

SUPPLEMENTARY INFORMATION: Supporting documents which explain in detail the information that the EPA will be collecting will be available in the public docket, EPA-HQ-OAR-2013-0118, for this ICR. The docket can be viewed online at www.regulations.gov or in person at the EPA Docket Center, EPA West, Room 3334, 1301 Constitution Ave., NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA is required under Section 183(e) of the Clean Air Act to regulate Volatile Organic Compound (VOC) emissions from the use of consumer and commercial products. Under regulations promulgated on February 26, 2007 (72 FR 8428) manufacturers of new portable gasoline containers are required to obtain certificates of conformity with the Clean Air Act, effective January 1, 2009. This ICR covers the burdens associated with this certification process. EPA reviews information submitted in a manufacturer's application for certification to determine if the gasoline container design conforms to applicable regulatory requirements and to verify that the required testing has been performed. The certificate holder is required to keep records on the testing and collect and keep warranty and defect information for annual reporting on in-use performance of their products. The respondent must also retain records on the units produced, apply serial numbers to individual containers, and track the serial numbers to their certificates of conformity. Any information submitted for which a claim of confidentiality is made is safeguarded according to EPA regulations at 40 CFR 2.201 et seq.

Form Numbers: None.

Respondents/affected entities: manufacturers of new portable gasoline containers from 0.25 to 10.0 gallons in capacity.

Respondent's obligation to respond: mandatory 40 CFR part 59, subpart F.

Estimated number of respondents: 9 (total).

Frequency of response: yearly for warranty reports; at least once every five years for certification and certificate renewals.

Total estimated burden: 240 hours (per year). Burden is defined at 5 CFR 1320.3(b).

Total estimated cost: $29,855.51 (per year), which includes $21,613.67 annualized capital and operation & maintenance costs.

Changes in Estimates: There is an increase of 33.1 hours in the total estimated respondent burden compared with the ICR currently approved by OMB. This increase of the burden and cost estimates is due to a change in the estimated cost of labor and additional testing requirements for new portable fuel container families to comply with the requirements for evaporative testing promulgated in 40 CFR part 59.

Byron Bunker,
Director, Compliance Division, Office of Transportation and Air Quality, US Environmental Protection Agency.

[FR Doc. 2023-24369 Filed 11-2-23; 8:45 am]

BILLING CODE 6560-50-P